DEPARTMENT OF COMMERCE

International Trade Administration

[A-583-850]

Certain Oil Country Tubular Goods From Taiwan: Amended Final Determination of Sales at Less Than Fair Value

AGENCY: Enforcement and Compliance, International Trade Administration, Department of Commerce.

SUMMARY: On July 18, 2014, the Department published its final determination of sales at less than fair value in the antidumping duty investigation of certain oil country tubular goods from Taiwan. The Department is amending its final determination to correct a ministerial error with respect to one respondent.

DATES: Effective Date: August 8, 2014.

FOR FURTHER INFORMATION CONTACT: Thomas Schauer or Hermes Pinilla, AD/CVD Operations, Office I, Enforcement and Compliance, International Trade Administration, U.S. Department of Commerce, 14th Street and Constitution Avenue NW., Washington, DC 20230; telephone: (202) 482-0410 or (202) 482-3477, respectively.

SUPPLEMENTARY INFORMATION:

Background

On July 18, 2014, the Department published its final determination of sales at less than fair value in the antidumping duty investigation of certain oil country tubular goods from Taiwan.¹ On July 21, 2014, Tension Steel Industries Co., Ltd. (Tension), submitted a ministerial error allegation.

¹ See Certain Oil Country Tubular Goods From Taiwan: Final Determination of Sales at Less Than Fair Value, 79 FR 41979 (July 18, 2014) (Final Determination).

Scope of the Investigation

The merchandise covered by the investigation is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock.

Excluded from the scope of the investigation are: casing or tubing containing 10.5 percent or more by weight of chromium; drill pipe; unattached couplings; and unattached thread protectors. The merchandise subject to the investigations is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the investigation may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the investigation is dispositive.

Amendment to the Final Determination

A “ministerial error” is defined under 19 CFR 351.224(f) as: An error in addition, subtraction, or other arithmetic function, clerical error resulting from inaccurate copying, duplication, or the like, and any other similar type of unintentional error which the Secretary considers ministerial. See also section 735(e) of the Tariff Act of 1930, as amended.

On July 21, 2014, Tension submitted a ministerial error allegation. After analyzing Tension's allegation, we agree with Tension that the Department committed a ministerial error within the meaning of 19 CFR 351.224(f) by using an incorrect variable name for U.S. rebates. Specifically, we meant to set certain U.S. rebates to zero but inadvertently did not because we made a typographical error in the variable name in the programming.² Correcting this error results in the weighted-average dumping margin for Tension changing from 2.52 percent to 2.34 percent.

² See Memorandum to File, “Less-Than-Fair-Value Investigation of Certain Oil Country Tubular Goods From Taiwan: Amended Final Determination Analysis Memorandum for Tension Steel Industries,” dated concurrently with this memorandum for the specific SAS programming language correcting the error.

Amended Final Determination

The Department determines that the following weighted-average dumping margins exist for the period July 1, 2012, through June 30, 2013:

Manufacturer/Exporter | Weighted- average dumping margin (percent)
Chung Hung Steel Corp | ³ 0.00
Tension Steel Industries Co., Ltd | 2.34
All Others | 2.34

Continuation of Suspension of Liquidation

The Department will instruct U.S. Customs and Border Protection (CBP) to continue to suspend liquidation of all entries of certain oil country tubular goods from Taiwan—with the exception of subject merchandise produced and exported by Chung Hung Steel Corp., for which we found no weighted average dumping margin—which were entered, or withdrawn from warehouse, for consumption on or after the date of publication of the Final Determination. With the exception of subject merchandise produced and exported by Chung Hung Steel Corp., we will instruct CBP to require a cash deposit equal to the weighted-average amount by which normal value exceeds U.S. price, as follows: (1) The rate for Tension Steel Industries Co., Ltd., will be the rate we determined in this amended final determination; (2) if the exporter is not a firm identified in this investigation but the producer is, the rate will be the rate established for the producer of the subject merchandise; (3) the rate for all other producers or exporters will be 2.34 percent, as discussed in the “All Others Rate” section, below. These suspension of liquidation instructions will remain in effect until further notice.

³ The rate for Chung Hung Steel Corp. did not change from the Final Determination.

All Others Rate

Section 735(c)(5)(A) of the Act provides that the estimated “all others” rate shall be an amount equal to the weighted average of the estimated weighted-average dumping margins established for exporters and producers individually investigated, excluding any zero or de minimis margins, and any margins determined entirely under section 776 of the Act. Because the margin for Chung Hung Steel Corp. was zero, we assigned as the all others rate the margin calculated for Tension, the only margin we calculated that was neither de minimis nor determined under section 776 of the Act; that rate is 2.34 percent.

U.S. International Trade Commission Notification

In accordance with section 735(d) of the Act, we notified the U.S. International Trade Commission (ITC) of the Final Determination and our amended final determination. As the Final Determination (and amended final determination) was affirmative and our amended preliminary determination was negative, in accordance with section 735(b)(3) of the Act, the ITC will determine within 75 days of the Final Determination whether the domestic industry in the United States is materially injured, or threatened with material injury, by reason of imports or sales (or the likelihood of sales) for importation of the subject merchandise. If the ITC determines that such injury exists, the Department will issue an antidumping duty order directing CBP to assess, upon further instruction by the Department, antidumping duties on all imports of the subject merchandise entered, or withdrawn from warehouse, for consumption on or after the effective date of the suspension of liquidation.

This amended final determination notice is published in accordance with section 735(e) of the Act and 19 CFR 351.224(e).

Dated: July 31, 2014.
Paul Piquado,
Assistant Secretary for Enforcement and Compliance.

[FR Doc. 2014-18831 Filed 8-7-14; 8:45 am]

BILLING CODE 3510-DS-P